DEPARTMENT OF JUSTICE

Bureau of Alcohol, Tobacco, Firearms and Explosives

[OMB Number 1140-0055]

Agency Information Collection Activities; Proposed eCollection eComments Requested; Revision of a Currently Approved Collection; Identification of Explosive Materials

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0055 (Identification of Explosive Materials) is being revised due to a reduction in the number of respondents, responses and public burden hours, since the last renewal in 2016.

DATES: Comments are encouraged and will be accepted for 60 days until September 30, 2019.

FOR FURTHER INFORMATION CONTACT: If you have additional comments, regarding the estimated public burden or associated response time, suggestions, or need a copy of the proposed information collection instrument with instructions, or additional information, please contact: Anita Scheddel, Program Analyst, ATF Explosives Industry Programs Branch, either by mail at 99 New York Ave NE, Washington, DC 20226, or by email at eipbinformationcollection@atf.gov, or by telephone at 202-648-7158.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Identification of Explosive Materials.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): None.

Abstract: Marking of explosives enables law enforcement entities to more effectively trace explosives from the manufacturer through the distribution chain, to the end purchaser. This process is used as a tool in criminal enforcement activities.

5. An estimate of the total number of respondents and the amount of time estimated for an average respondent to respond: An estimated 2,153 respondents will respond to this IC approximately 520 times, and it will take each respondent approximately three (3) seconds to provide response twice per day.

6. An estimate of the total public burden (in hours) associated with the collection: The estimated annual public burden associated with this collection is 932.9 or 933 hours, which is equal to 2,153 (# of respondents) * 260 (number of workdays) * 0.00166667 hours (total six (6) seconds to respond each day).

7. An Explanation of the Change in Estimates: The adjustment associated with this collection is a decrease in the number of respondents by 52. Consequently, the total responses and burden hours have reduced by 27, 040 and 23 hours respectively, since the last renewal in 2016.

If additional information is required contact: Melody Braswell, Department Clearance Officer, United States Department of Justice, Justice Management Division, Policy and Planning Staff, Two Constitution Square, 145 N Street NE, 3E.405A, Washington, DC 20530.

Dated: July 29, 2019.
Melody Braswell,
Department Clearance Officer for PRA, U.S. Department of Justice.

[FR Doc. 2019-16393 Filed 7-31-19; 8:45 am]

BILLING CODE 4410-FY-P